DEPARTMENT OF TRANSPORTATION

Federal Aviation Administration

14 CFR Part 39

[Docket No. FAA-2007-0266; Directorate Identifier 2007-NM-170-AD]

RIN 2120-AA64

Airworthiness Directives; Airbus Model A330 Series Airplanes and Model A340-200 and -300 Series Airplanes

AGENCY: Federal Aviation Administration (FAA), Department of Transportation (DOT).

ACTION: Notice of proposed rulemaking (NPRM).

SUMMARY: The FAA proposes to adopt a new airworthiness directive (AD) for certain Airbus Model A330 series airplanes and Model A340-200 and -300 series airplanes. This proposed AD would require revising the airplane flight manual (AFM) to prohibit the flightcrew from performing CAT 2 and CAT 3 automatic landings and roll-outs at certain airports. This AD also provides an optional terminating action for the AFM revision. This proposed AD results from data showing that the magnetic variation table installed in certain Honeywell and Northrop Grumman air data inertial reference units (ADIRUs) is obsolete at certain airports. We are proposing this AD to prevent the airplane from departing the runway during a CAT 2 or CAT 3 automatic landing or roll-out, due to differences between actual magnetic variation and the values in the ADIRU magnetic variation tables.

DATES: We must receive comments on this proposed AD by January 2, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Comments Invited

We invite you to send any written relevant data, views, or arguments about this proposed AD. Send your comments to an address listed under the ADDRESSES section. Include “Docket No. FAA-2007-0266; Directorate Identifier 2007-NM-170-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The European Aviation Safety Agency (EASA), which is the technical agent for the Member States of the European Union, notified us that an unsafe condition may exist on certain Airbus Model A330 series airplanes and Model A340-200 and -300 series airplanes equipped with certain Honeywell or Northrop Grumman air data inertial reference units (ADIRUs). The EASA advises that the magnetic variation table installed in certain Honeywell and Northrop Grumman ADIRUs is obsolete at certain airports. Studies have shown that, for a given airport, a difference greater than 3 degrees between the real magnetic variation and the variation in the ADIRU could result in misinformation to the flightcrew during the phases of CAT 2 or CAT 3 automatic landing or roll-out. This condition, if not corrected, could result in the airplane departing the runway during a CAT 2 or CAT 3 automatic landing or roll-out.

Relevant Service Information

Airbus has issued the following temporary revisions (TRs) to the A330 Airplane Flight Manual (AFM): TR 2.05.00/67, Issue 2, dated September 19, 2007; and TR 2.05.00/68, dated March 31, 2006. Airbus has also issued the following TRs to the A340 AFM: TR 2.05.00/87, Issue 2, dated September 19, 2007; and TR 2.05.00/88, dated March 31, 2006. The TRs provide operational limitations that prohibit the flightcrew from performing CAT 2 and CAT 3 automatic landings and roll-outs at airports where the difference between the real magnetic deviation and the deviation in the ADIRU is greater than 3 degrees. The TRs also list the affected airports and date by which automatic landings and roll-outs are prohibited.

We have reviewed the service bulletins listed in the “Optional Terminating Action” table, which describe procedures for replacing certain ADIRUs with new, improved ADIRUs. Accomplishing the actions specified in the applicable service bulletin would end the need for the AFM revision.

Optional Terminating Action
Model— | Airbus service bulletin—
A330-200 and A330-300 series airplanes equipped with certain Northrop Grumman ADIRUs | A330-34-3132, dated December 16, 2003; or Revision 01, dated August 18, 2004. A330-34-3159, dated February 10, 2005.
A330-200 and A330-300 series airplanes equipped with certain Honeywell ADIRUs | A330-34-3104, dated July 17, 2003. A330-34-3165, dated June 28, 2006.
A340-200 and A340-300 series airplanes equipped with certain Northrop Grumman ADIRUs | A340-34-4141, dated December 16, 2003; or Revision 01, dated August 18, 2004. A340-34-4163, dated February 10, 2005.
A340-200 and A340-300 series airplanes equipped with certain Honeywell ADIRUs | A340-34-4114, dated July 17, 2003. A340-34-4166, dated June 28, 2006.

Accomplishing the actions specified in the service information is intended to adequately address the unsafe condition. The EASA mandated the service information and issued airworthiness directive 2006-0232, dated August 7, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require revising the AFM to prohibit the flightcrew from performing CAT 2 and CAT 3 automatic landings and roll-outs at certain airports. This proposed AD also provides an optional terminating action for the AFM revision.

Costs of Compliance

This proposed AD would affect about 40 airplanes of U.S. registry. The proposed actions would take about 1 work hour per airplane, at an average labor rate of $80 per work hour. Based on these figures, the estimated cost of the proposed AD for U.S. operators is $3,200, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2007-0266; Directorate Identifier 2007-NM-170-AD.

Comments Due Date

(a) The FAA must receive comments on this AD action by January 2, 2008.

Affected ADs

(b) None.

Applicability

(c) This AD applies to Airbus Model A330-200, A330-300, A340-200, and A340-300 series airplanes, certificated in any category; equipped with the air data inertial reference units (ADIRUs) identified in paragraphs (c)(1) and (c)(2) of this AD.

(1) Honeywell ADIRUs having part numbers (P/Ns) HG2030AC0X (where X is any number between 0 and 9 inclusive) and P/Ns HG2030ADYY (where YY is any number between 00 and 10 inclusive).

(2) Northrop Grumman (formerly Litton) ADIRUs having P/Ns 465020-030303ZZ (where ZZ is any number between 00 and 12 inclusive).

Unsafe Condition

(d) This AD results from data showing that the magnetic variation table installed in certain Honeywell and Northrop Grumman ADIRUs is obsolete at certain airports. We are issuing this AD to prevent the airplane from departing the runway during a CAT 2 or CAT 3 automatic landing or roll-out, due to differences between actual magnetic variation and the values in the ADIRU magnetic variation tables.

Compliance

(e) You are responsible for having the actions required by this AD performed within the compliance times specified, unless the actions have already been done.

Temporary Revision (TR) References

(f) The term “Temporary Revision,” as used in this AD, means the following TRs, as applicable:

(1) For Model A330-200 and A330-300 series airplanes equipped with any Honeywell ADIRU identified in paragraph (c)(1) of this AD: Airbus TR 2.05.00/67, Issue 2, dated September 19, 2007, to the Airbus A330 Airplane Flight Manual (AFM);

(2) For Model A330-200 and A330-300 series airplanes equipped with any Northrop Grumman ADIRU identified in paragraph (c)(2) of this AD: Airbus TR 2.05.00/68, dated March 31, 2006, to the Airbus A330 AFM;

(3) For Model A340-200 and A340-300 series airplanes equipped with any Honeywell ADIRU identified in paragraph (c)(1) of this AD: Airbus TR 2.05.00/87, Issue 2, dated September 19, 2007, to the Airbus A340 AFM;

(4) For Model A340-200 and A340-300 series airplanes equipped with any Northrop Grumman ADIRU identified in paragraph (c)(2) of this AD: Airbus TR 2.05.00/88, dated March 31, 2006, to the Airbus A340 AFM.

Airplane Flight Manual (AFM) Revision

(g) Within 14 days after the effective date of this AD, revise the Limitations Section of the Airbus A330 or A340 AFM, as applicable, to prohibit the flightcrew from performing CAT 2 and CAT 3 automatic landings and roll-outs at certain airports by incorporating the applicable Temporary Revision into the AFM. Operate the airplane according to the limitations in the applicable TR.

(h) When the information in the applicable TR has been incorporated into the general revisions of the Airbus A330 or A340 AFM, as applicable, the general revisions may be inserted into the AFM, and the TR may be removed from the AFM.

Optional Terminating Action

(i) Replacing the ADIRUs with new, improved ADIRUs as specified in paragraph (i)(1), (i)(2), (i)(3), or (i)(4) of this AD terminates the AFM revision required by paragraph (g) of this AD.

(1) For Model A330-200 and A330-300 series airplanes equipped with any Honeywell ADIRU identified in paragraph (c)(1) of this AD, doing the replacement in accordance with the Accomplishment Instructions of Airbus Service Bulletin A330-34-3165, dated June 28, 2006; or Airbus Service Bulletin A330-34-3104, dated July 17, 2003.

(2) For Model A330-200 and A330-300 series airplanes equipped with any Northrop Grumman ADIRU identified in paragraph (c)(2) of this AD, doing the replacement in accordance with the Accomplishment Instructions of Airbus Service Bulletin A330-34-3132, dated December 16, 2003, or Revision 01, dated August 18, 2004; or Airbus Service Bulletin A330-34-3159, dated February 10, 2005.

(3) For Model A340-200 and A340-300 series airplanes equipped with any Honeywell ADIRU identified in paragraph (c)(1) of this AD, doing the replacement in accordance with the Accomplishment Instructions of Airbus Service Bulletin A340-34-4166, dated June 28, 2006; or Airbus Service Bulletin A340-34-4114, dated July 17, 2003.

(4) For Model A340-200 and A340-300 series airplanes equipped with any Northrop Grumman ADIRU identified in paragraph (c)(2) of this AD, doing the replacement in accordance with the Accomplishment Instructions of Airbus Service Bulletin A340-34-4141, dated December 16, 2003, or Revision 01, dated August 18, 2004; or Airbus Service Bulletin A340-34-4163, dated February 10, 2005.

Alternative Methods of Compliance (AMOCs)

(j)(1) The Manager, International Branch, ANM-116, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) European Aviation Safety Agency airworthiness directive 2006-0232, dated August 7, 2006, also addresses the subject of this AD.

Issued in Renton, Washington, on November 23, 2007.
Ali Bahrami,
Manager, Transport Airplane Directorate, Aircraft Certification Service.

[FR Doc. E7-23338 Filed 11-30-07; 8:45 am]

BILLING CODE 4910-13-P